DEPARTMENT OF HOMELAND SECURITY

Coast Guard

33 CFR Part 100

[Docket No. USCG-2022-0881]

Special Local Regulations; Marine Event Within the Captain of the Port Savannah Zone—Savannah Harbor Boat Parade of Lights and Fireworks

AGENCY: Coast Guard, DHS.

ACTION: Notification of enforcement of regulation.

SUMMARY: The Coast Guard will enforce the special local regulation for the Savannah Harbor Boat Parade of Lights and Fireworks. This action is necessary to ensure safety of life on navigable waters of the Savannah River during the Savannah Harbor Boat Parade of Lights and Fireworks displays. During the enforcement period, no person or vessel may enter, transit through, anchor in, or remain within the designated area unless authorized by the Captain of the Port Savannah or a designated representative.

DATES: The regulations in 33 CFR 100.701 will be enforced for the location identified in paragraph (d) Item 4 of Table 1 to § 100.701, will be enforced from 5 p.m. through 10 p.m. on November 26, 2022.

FOR FURTHER INFORMATION CONTACT: If you have questions about this notification of enforcement, call or email LT Alex McConnell, Marine Safety Unit Savannah Office of Waterways Management, Coast Guard; telephone 912-652-4353, extension 240, or email Alexander.W.McConnell@uscg.mil.

SUPPLEMENTARY INFORMATION: The Coast Guard will enforce the special local regulation for the Savannah Harbor Parade of Lights and Fireworks in 33 CFR 100.701, Table 1 to § 100.701, paragraph (d), Item 4, from 5 p.m. until 10 p.m., on November 26, 2022. This action is being taken to provide for the safety and security of navigable waterways during this one-day event. Our regulation for marine events within the Captain of the Port Savannah, § 100.701, specifies the location of the special local regulation for Savannah Harbor Boat Parade of Lights and Fireworks, which encompasses parts of the Savannah River from the Talmadge bridge to a line drawn at 146 degrees true from Dayboard 62, in Savannah, GA. Only event sponsored, designated participants and official patrol vessels will be allowed to enter the regulated area.

Spectator vessels may safely transit outside the regulated area, but may not anchor, block, loiter in, impede the transit of festival participants or official patrol vessels or enter the regulated area without approval from the Captain of the Port Savannah or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: November 22, 2022.
M.K. Villafane,
Lieutenant Commander, U.S. Coast Guard, Acting, Captain of the Port Savannah, GA.

[FR Doc. 2022-25902 Filed 11-22-22; 4:15 pm]

BILLING CODE 9110-04-P